DEPARTMENT OF HEALTH AND HUMAN SERVICES

Health Resources and Services Administration

National Advisory Council on Nurse Education and Practice; Notice of Meeting

In accordance with section 10(a)(2) of the Federal Advisory Committee Act (Pub. L. 92-463), notice is hereby given of the following meeting:

Name: National Advisory Council on Nurse Education and Practice (NACNEP).

Dates and Time: June 7-8, 2016, 8:30 a.m.-5:00 p.m. EST.

Place: In-Person Meeting with Webinar/Conference Call Component, U.S. Department of Health and Human Services, Health Resources and Services Administration, 5600 Fishers Lane, Room 5A02/5A03, Rockville, Maryland 20857.

Status: This Advisory Council meeting will be open to the public.

Purpose: The purpose of the 133rd NACNEP meeting is to explore strategies to prepare registered nurses (RNs) to address the complex health needs of populations within an evolving health care delivery system. NACNEP members will identify and discuss gaps in population health education, as well as educational competencies in population health for RNs. This meeting will contribute to the development of NACNEP's mandated 14th Annual Report to the Secretary of the U.S. Department of Health and Human Services and Congress.

Agenda: A final agenda will be posted on the NACNEP Web site 3 days prior to the meeting. Agenda items are subject to change as priorities dictate.

SUPPLEMENTARY INFORMATION: Further information regarding NACNEP, including the roster of members, reports to Congress, and minutes from previous meetings, is available at the NACNEP Web site. Members of the public and interested parties may request to attend the meeting by contacting Staff Assistant, Jeanne Brown, at jbrown@hrsa.gov. Access to the meeting will be granted on a first-come, first-served basis and space is limited. Public attendees may submit written statements in advance of the scheduled meeting. In addition, a public comment period is tentatively scheduled for the first day of the meeting after the lunch break. Oral comments will be limited to three minutes per speaker. Written statements and registration for oral comments must be received in advance and should be sent to Erin Fowler by email at: nacnep@hrsa.gov. Individuals who plan to attend and need special assistance, such as sign language interpretation or other reasonable accommodations, should notify the contact person listed above at least 10 days prior to the meeting.

Please be advised that council members are given copies of all written statements submitted by the public prior to the meeting. Any further public participation will be at the discretion of the Chair, with approval of the Designated Federal Official in attendance. Any member of the public who wishes to have printed materials distributed to NACNEP should submit materials to the National Advisory Council on Nurse Education and Practice mailbox at nacnep@hrsa.gov, no later than 12:00 noon EST on May 26, 2016.

For additional information regarding NACNEP, please contact Jeanne Brown, Staff Assistant, National Advisory Council on Nurse Education and Practice, 5600 Fishers Lane, Rockville, Maryland 20857. The telephone number is: (301) 443-5688. The email is: jbrown@hrsa.gov.

Jackie Painter,
Director, Division of the Executive Secretariat.

[FR Doc. 2016-08036 Filed 4-7-16; 8:45 am]

BILLING CODE 4165-15-P